DEPARTMENT OF TRANSPORTATION

Data Capture and Management Research Program Public Meeting; Notice of Public Meeting

AGENCY: ITS Joint Program Office, Office of the Assistant Secretary for Research & Technology, U.S. Department of Transportation.

ACTION: Notice.

The U.S. Department of Transportation (USDOT) Intelligent Transportation System Joint Program Office (ITS JPO) will host a public meeting seeking input on the current operation and future plans to enhance the Data Capture and Management Program's (DCM) Research Data Exchange (RDE). The meeting will take place Wednesday, March 26, 2014, from 8:00 a.m. (EDT) to 4:30 p.m. (EDT) at the Federal Highway Administration's Research Center, located at 6300 Georgetown Pike, McLean, VA 22101. Persons planning to attend the meeting should register online at www.itsa.org/rderegistration and are encouraged to register early to ensure they receive the read-ahead materials for this meeting in a timely manner.

The meeting will discuss:

• Current functionality and operation of the RDE;

• Potential functions, resources or services to enhance the operation of the RDE;

• Process and plans for collecting, managing and supporting the use of connected vehicle related data sets to be posted on the RDE;

• Need for and potential priorities for connected vehicle relates data sets to make available on the RDE in the future; and

• Opportunities to enhance the operation and use of the RDE.

The meeting is designed to solicit feedback from stakeholders who are current users of the connected vehicle related data sets currently available to access and use on the RDE and is an appropriate opportunity for public sector, researchers, and private sector involved with ITS transportation management systems and connected vehicle related applications. The meeting will engage these stakeholders in a discussion of the current functionality, possible enhancements to the RDE, and possible priorities for future connected vehicle related data sets to make available on the RDE.

The RDE makes available archived and real-time data from multiple sources and multiple modes on the surface transportation system. The RDE provides access to ITS data sets from multiple sources including connected vehicles, probe messages, traffic monitoring and reporting devices (e.g., volumes, speed, and crashes), incidents, traffic signals, weather sensors, and transit vehicles. Data accessible through the RDE is quality-checked, well-documented, and freely available to the public. These data sets allow for the electronic access to a wide range of issues and factors to be considered or used for analysis and research. This data sharing capability supports the needs of researchers, application developers, and others, while reducing their costs and encouraging innovation.

This meeting's discussions will be fairly technical and predominantly focused on collecting, storing, using, and sharing multi-source and multi-modal data with traffic management systems or ITS devices. A final report will be prepared summarizing the information presented, discussed, feedback provided, and recommendations identified at this meeting.

For more information, please contact Carlos Alban, Transportation Program Specialist, Intelligent Transportation Society of America, 1100 New Jersey Ave. SE., Suite #50, Washington, DC 20003, 202-721-4223, calban@its.org.

Issued in Washington, DC, on the 12th day of March 2014.
John Augustine,
Managing Director, ITS Joint Program Office.

[FR Doc. 2014-05865 Filed 3-17-14; 8:45 am]

BILLING CODE 4910-HY-P